DEPARTMENT OF AGRICULTURE

Food and Nutrition Service

Agency Information Collection Activities: Proposed Collection; Comment Request—Request for Public Comments for the Special Supplemental Nutrition Program for Women, Infants and Children (WIC) Loving Support Award of Excellence

AGENCY: Food and Nutrition Service (FNS), USDA.

ACTION: Notice.

SUMMARY: In accordance with the Paperwork Reduction Act of 1995, this notice invites the general public and other public agencies to comment on this proposed information collection. This collection is a new collection for awarding local agencies for excellence in WIC breastfeeding services and support. Section 231 of the Healthy, Hunger-Free Kids Act of 2010, Public Law 111-296, requires that the Department of Agriculture (USDA) establish a program to recognize WIC local agencies and clinics that demonstrate exemplary breastfeeding promotion and support activities.

DATES: Written comments must be received on or before May 7, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be submitted using the Federal eRulemaking Portal: http://www.regulations.gov or by mail: Debra R. Whitford, Director, Supplemental Food Programs Division, FNS, USDA, 3101 Park Center Drive, Room 520, Alexandria, VA 22302. All comments submitted in response to this notice will be included in the record and will be made available to the public. Please be advised that the substance of the comments and the identity of the individuals or entities submitting the comments will be subject to public disclosure. All comments will be made available publicly on the internet at http://www.regulations.gov.

All responses to this notice will be summarized and included in the request for Office of Management and Budget approval.

FOR FURTHER INFORMATION CONTACT: Anne Bartholomew, Chief, Nutrition Services Branch, Supplemental Food Programs Division, FNS, USDA, 3101 Park Center Drive, Room 520, Alexandria, VA 22302. Telephone: (703) 305- 2746.

SUPPLEMENTARY INFORMATION:

Title: Request for Public Comments for Special Supplemental Nutrition Program for Women, Infants and Children (WIC) Loving Support Award of Excellence.

Form Number: Not applicable.

OMB Number: 0584-NEW

Expiration Date: Not Yet Determined.

Type of Request: New collection.

Abstract: This information collection is mandated by section 231 of the Healthy, Hunger-Free Kids Act of 2010 (HHFKA) (Pub. L. 111-296). Section 231 of the HHFKA, requires USDA to implement a program to recognize exemplary breastfeeding support practices at WIC local agencies and clinics. The WIC Program provides breastfeeding promotion and support for pregnant and postpartum mothers as a part of its mission to improve the health of the approximately 9 million Americans it serves each month. Breastfeeding is a priority in WIC and WIC mothers are strongly encouraged to breastfeed their infants unless medically contraindicated.

In recognizing exemplary local agencies and clinics, the HHFKA requires that the Secretary consider the following criteria: (1) Performance measurements of breastfeeding; (2) the effectiveness of a peer counselor program; (3) the extent to which the agency or clinic has partnered with other entities to build a supportive breastfeeding environment for women participating in WIC; and (4) other criteria the Secretary considers appropriate after consultation with State and local program agencies. The information will be submitted voluntarily by WIC local agencies who will be applying for an award. FNS will use the information collected to evaluate the components of existing breastfeeding programs and support in WIC local agencies and make decisions about awards. This program is expected to provide models and motivate other local agencies and clinics to strengthen their breastfeeding promotion and support activities. Applications will be submitted online.

Affected Public: State, Local and Tribal Government.

Estimated Number of Respondents: The total estimated number of participants is 697: 607 local WIC agencies, 90 State WIC agencies.

A recent FNS study on WIC Breastfeeding Peer Counseling found that approximately one third of the local WIC agencies operate a “Loving Support Program.” The Loving Support Program is an FNS initiative that equips WIC programs with an implementation and management model—the “Loving Support Model”—that serves as a framework for designing, building, and sustaining peer counseling programs; a requirement for award eligibility. Based on the findings of the study, it is estimated that approximately 607 of the 1838 WIC local agencies will be eligible to apply for an award. The estimated number of respondents for local agency applications assumes all eligible local WIC agencies will apply for an award. The estimated number of respondents for the State agency application verification is derived from the total number of State WIC agencies.

Estimated Number of Responses per Respondent: The estimated number of responses per respondent for the WIC local agency is one, as each eligible WIC local agency will submit one application. The estimated number of responses per respondent for the WIC State agency is 6.74, as each WIC State agency will evaluate approximately 6.74 applications. The estimated number of responses per respondent for the WIC State agency application evaluation was derived by dividing the total number of respondents for the WIC local agency applications, 607, by the total number of WIC State agencies, 90.

Estimated Total Annual Responses: 1213.7.

Estimated Time per Response: FNS estimates the WIC local agency application response is 2.5 hours, and the WIC State agency response is 1.5 hours.

Estimated Total Annual Burden on Respondents: 2427.4 hours.

See the table below for estimated total annual burden for each type of respondent.

Reporting Burden
Respondent | Estimated number respondent | Responses annually per respondent | Total annual responses (Col. bxc) | Estimated average number of hours per response* | Estimated total hours (Col. dxe)
WIC Local Agency Applications | 607 | 1.00 | 607 | 2.5 | 1517.50
WIC State Agency Evaluation | 90 | 6.74 | 606.7 | 1.5 | 909.90
Total Reporting Burden | 697 | 1.74 | 1213.70 | 2 | 2427.40
* Estimated average number of hours per response includes .5 hours for reviewing instructions.

The time for the WIC local agency is an estimated time for the agency to voluntarily review the instructions, fill out the “Loving Support Award of Excellence” application, and attach supportive documentation. The time for the State WIC agency is an estimated time for the agency to review the instructions, evaluate the components of the local WIC agencies applications, and make a recommendation for an award.

Dated: February 28, 2013.
Audrey Rowe,
Administrator, Food and Nutrition Service.

[FR Doc. 2013-05496 Filed 3-7-13; 8:45 am]

BILLING CODE 3410-30-P